DEPARTMENT OF HEALTH AND HUMAN SERVICES

Administration for Children and Families

[Office of Management and Budget #: 0970-0486]

Proposed Information Collection Activity: 2024 Low Income Home Energy Assistance Program (LIHEAP) Residential Energy Consumption Survey (RECS) Data Match

AGENCY: Office of Community Services; Administration for Children and Families; U.S. Department of Health and Human Services.

ACTION: Request for public comments.

SUMMARY: The Office of Community Services (OCS) is requesting a reinstatement with changes to the collection and reporting of administrative household beneficiary data from state Low Income Home Energy Assistance Program (LIHEAP) grant recipients. The LIHEAP Residential Energy Consumption Survey (RECS) Data Match request is completed approximately every five years, to support research and analysis of LIHEAP program impacts. Office of Management and Budget (OMB) approved the original collection under #: 0970-0486. Through the LIHEAP RECS data match, OCS requires state grant recipients to provide household-level recipient data. This request will cover data for fiscal years 2024, and 2025, and include revisions aimed to reduce the reporting burden by approximately 30 percent compared to the last such data collection in 2021.

DATES: Comments due April 14, 2026.

ADDRESSES: In compliance with the requirements of the Paperwork Reduction Act of 1995, ACF is soliciting public comment on the specific aspects of the information collection described above. You can obtain copies of the proposed collection of information and submit comments by emailing infocollection@acf.hhs.gov. Identify all requests by the title of the information collection.

SUPPLEMENTARY INFORMATION: Description: Congress established the LIHEAP block grant (42 U.S.C. 8621 et seq.) under Title XXVI of the Omnibus Budget Reconciliation Act of 1981, Public Law 97-35, as amended. OCS administers LIHEAP at the federal level. The LIHEAP statute requires the Department of Health and Human Services (HHS) to report to Congress annually on program impacts on recipient and eligible households. The primary program goals, as articulated in the statute, are to ensure that benefits are targeted to those households where the greatest program impacts are expected, and to assure that timely resources are available to households experiencing home energy crises.

OCS is seeking to collect data from all state LIHEAP grant recipients and the District of Columbia that will allow OCS to identify LIHEAP recipients that respond to the RECS, and support research and analysis of LIHEAP program impacts. The U.S. Energy Information Administration (EIA) conducted the 2024 RECS in 2024 and early 2025. EIA conducts this survey to provide periodic national and regional data on residential energy use in the U.S. OCS uses RECS data to furnish Congress and HHS with important national and regional descriptive data on the energy needs of households with low incomes, as required by the LIHEAP statute (42 U.S.C. 8629). Specific data elements OCS is seeking to collect are detailed below.

ACF is proposing to request the majority of the data elements included in the 2021 request through which state LIHEAP grant recipients provided household-level recipient data to identify LIHEAP recipients that participated in the 2020 RECS. For the upcoming 2024-2025 LIHEAP RECS data match, ACF proposes to eliminate eight data fields compared to the prior data request: Household name, household telephone number, date of heating assistance, date of cooling assistance, date of crisis assistance, other assistance awarded, amount of other assistance, and date of other assistance. These elements were determined to be either duplicative data from other sources or are not essential to determining residential energy consumption and expenditures. The LIHEAP Annual Household Report (OMB Control #: 0970-0060), completed by grant recipients, gives OCS data on household make up. Similarly, the LIHEAP Performance Data report (OMB Control #: 0970-0449). provided OCS an overview of crisis assistance and expenditures. With these reports, OCS determined the 8 elements were not necessary for this data collection. Additionally, ACF has streamlined the brief instructions to state grant recipients.

The LIHEAP data collected for this effort will be used by OCS to study and report on the impact of LIHEAP on income eligible and recipient households in accordance with 42 U.S.C. 8629(b)(2). The information is being collected for use in development of the Department's annual LIHEAP report to Congress and the annual LIHEAP Home Energy Notebook. The collection of this data is authorized by the LIHEAP statute, which requires the Secretary of Health and Human Services, following consultation with the Secretary of Energy, to provide for the collection of specific information on the characteristics of LIHEAP recipient and LIHEAP eligible households within each state and the RECS provides detailed data on residential end uses of energy. This includes collecting information that is reasonably necessary to carry out the provisions of the LIHEAP statute if that information is not collected by any other agency of the federal government.

State LIHEAP grant recipients will be asked to furnish data for LIHEAP beneficiary households that reside in areas included in the RECS sample.

Consistent with prior requests, state LIHEAP grant recipients will be asked to furnish the following data for LIHEAP recipient households that reside in areas included in the RECS sample:

• Address (including ZIP code)

• Gross Income

• Household or Client ID

• Household Size

• Heating assistance awarded

• Amount of heating assistance

• Cooling assistance awarded

• Amount of cooling assistance

• Crisis assistance awarded

• Amount of crisis assistance

• Presence of children 5 or younger

• Presence of adult 60 or older

• Presence of member with a disability

The following are additional optional data items that grantees can provide if the data are already available in your database:

• Tenancy (i.e., own or rent)

• Type(s) of fuel used

• Heat included in rent

The RECS provides detailed data on residential end uses of energy. This data will also help ACF to analyze specific information for the LIHEAP recipient population in accordance with 42 U.S.C. 8629(b)(2), including information related to benefits targeting, energy usage, and energy insecurity, and it will support analysis of LIHEAP data for the annual report to Congress and the annual LIHEAP Home Energy Notebook. The collection of this data is authorized in 42 U.S.C. 8629(a) and 42 U.S.C. 8623(a)(4).

State LIHEAP grant recipients can provide the data elements in the selected format of their choosing.

The privacy of client data will be strictly protected as part of the project. OCS plans to maximize rapid file transfer technology by using a secure internet site that employs File Transfer Protocol. LIHEAP application client waivers allow grant recipients to share information with OCS and its contractor(s).

Respondents: 51 (state governments and the District of Columbia).

Annual Burden Estimates: Eliminating data elements and streamlining instructions is expected to reduce the estimated time per response from 24 to 16 hours, which is a 33 percent reduction in burden compared to the 2021 request.

Instrument | Total number of respondents | Total number of responses per respondent | Average burden hours per response | Total annual burden hours
2024 LIHEAP RECS Data Match | 51 | 1 | 16 | 816

Additional Information: As LIHEAP is a block grant, there is varying capacity to collect and report data among grant recipients. The estimated burden hours displayed above are for the average state LIHEAP grant recipient. All LIHEAP grant recipients have existing data systems to collect, maintain, and analyze this data to complete annual reporting requirements. This data collection will only be done once in the short to mid-term future because the RECS is only conducted every five years or so.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 8629(a).

Mary C. Jones,
ACF/OPRE Certifying Officer.

[FR Doc. 2026-02928 Filed 2-12-26; 8:45 am]

BILLING CODE 4184-80-P